THE PRESIDIO TRUST

36 CFR Part 1002

Public Use Limit on Commercial Dog Walking; Revised Disposal Conditions

AGENCY: The Presidio Trust.

ACTION: Proposed rule; extension of comment period.

SUMMARY: The Presidio Trust (Trust) is requesting public comment on a proposed public use limit on persons who are walking four or more dogs at one time in Area B of the Presidio of San Francisco for consideration (Commercial Dog Walkers). The limit will require any person walking four or more dogs at one time for consideration in Area B to possess a valid Commercial Dog Walking permit obtained from the City and County of San Francisco (City). Commercial Dog Walkers with four or more dogs at one time in Area B will be required to comply with the terms and conditions of the City permit as well as those rules and regulations otherwise applicable to Area B. The Trust is also proposing that throughout Area B, all pet walkers, whether or not for consideration, shall remove pet excrement and deposit it in refuse containers.

DATES: The comment period for the proposed rule published November 21, 2012 (77 FR 69785-69788) is extended. Comments are due February 25, 2013. Comments already submitted in response to the November 21, 2012 proposed rule need not be resubmitted.

ADDRESSES: Electronic comments may be sent to jpelka@presidiotrust.gov. Written comments may be mailed or hand delivered to John Pelka, The Presidio Trust, 103 Montgomery Street, P.O. Box 29052, San Francisco, CA 94129. All written comments submitted to the Trust will be considered, and these proposals may be modified accordingly. The final decision of the Trust will be published in the Federal Register.

Public Availability of Comments: If individuals submitting comments request that their address or other contact information be withheld from public disclosure, it will be honored to the extent allowable by law. Such requests must be stated prominently at the beginning of the comments. The Trust will make available for public inspection all submissions from organizations or businesses and from persons identifying themselves as representatives or officials of organizations and businesses.

Anonymous comments may not be considered.

FOR FURTHER INFORMATION CONTACT: Joshua Steinberger (415.561.5300), or visit http://www.presidio.gov/about/Pages/commercial-dog-walking.aspx.

SUPPLEMENTARY INFORMATION: The proposed rule originally was published in the Federal Register on November 21, 2012, with a 65-day comment period set to end on January 25, 2013. In response to public comments, the comment period has been extended to February 25, 2013.

Dated: January 23, 2013.
Karen A. Cook,
General Counsel.

[FR Doc. 2013-01796 Filed 1-29-13; 8:45 am]

BILLING CODE 4310-4R-P